DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of April, 2001.

In order for an affirmative determination to be made and a certification of eligibility to apply for worker adjustment assistance to be issued, each of the group eligibility requirements of Section 222 of the Act must be met:

(1) That a significant number or proportion of the workers in the workers' firm, or an appropriate subdivision thereof, have become totally or partially separated,

(2) That sales or production, or both, of the firm or sub-division have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-38, 557; Southern Webbing Mills, Inc., Floyd, VA

TA-W-38, 791; Sierra Pacific Industries, Loyalton, CA

TA-W-38, 784; Joseph L. Schlessinger, T/A Schlessinger Industries Ridgefield Machine, Inc., P & G Machinery Repair Corp., Ridgefield, NJ

TA-W-38, 470; Plum Creek Timber Co., Pablo, MT

TA-W-38, 599; Sherwood Harso Corp., Lockport, NY

TA-W-38, 615; Koppel Steel Corp., Koppel, PA

In the following cases, the investigation revealed that the criteria for eligibility have not been met for the reasons specified.

Increased imports did not contribute importantly to worker separations at the firm.

TA-W-38, 965; Ingersoll Milling Machine Co., High Velocity Machine Div., Rockford, IL

TA-W-38, 493 & A; Creative Products, Inc., Potomac, IL and Rossville, IL

TA-W-38, 983; Zapata Technologies, Inc., Hazelton, PA

TA-W-39, 059; Ludlow Building Products, Inc., Adrian, MI

TA-W-38, 873; Kodak Polychrome Graphics, Holyoke, MA

TA-W-38, 885; Grote Industries, LLC, Harness Div., Madison, IN

TA-W-39, 001; Accuride International, Inc., Charlotte, NC

The workers firm does not produce an article as required for certification under Section 222 of the Trade Act of 1974.

TA-W-38, 818; STS Systems, Inc., d/b/a 3DFX Interactive of Texas, Inc., El Paso, TX

TA-W-38, 808; Hit or Miss Stoughton, MA

TA-W-38, 461; Oxford Automotive, Argos, IN

The investigation revealed that criteria (2) has not been met. Sales or production did not decline during the relevant period as required for certification.

TA-W-38, 758; PerkinElmer Optoelectronics, St. Louis, MO

TA-W-39, 028; M&G Polymer USA, LLC, Apple Grove, WV

Affirmative Determinations for Worker Adjustment Assistance

The following certifications have been issued; the date following the company name and location of each determination references the impact date for all workers of such determination.

TA-W-38, 987; GIGI of Carolina, Inc., Cherryville, NC: March 22, 2000.

TA-W-38, 718; Weyerhauser Co., Mt. Pine Wood Products, Mt Pine, AR: February 8, 2000.

TA-W-38, 472; Mid-American Electro Cords, Decatur, AL: December 12, 1999.

TA-W-38, 530; The Fletcher Corp., Fletcher Paper Co and Fletcher Coated Products, Alpena, MI: December 21, 1999.

TA-W-38, 903; United Design Corp., Noble, OK: March 5, 2000.

TA-W-38, 841; Pathfinders U.S.A., LLC, Sedro Woolley, WA: February 7, 2000.

TA-W-38, 552; North Star Steel-Kentucky, Calvert City, KY: December 29, 1999.

TA-W-38, 857; Erie Coke Corp., Erie, PA: February 22, 2000.

TA-W-38, 867; Kerr-McGee Chemical LLC, Electrolytic Div., Hamilton, MS: March 2, 2000.

Also, pursuant to Title V of the North American Free Trade Agreement Implementation Act (P.L. 103-182) concerning transitional adjustment assistance hereinafter called (NAFTA-TAA) and in accordance with Section 250(a), Subchapter D, Chapter 2, Title II, of the Trade Act as amended, the Department of Labor presents summaries of determinations regarding eligibility to apply for NAFTA-TAA issued during the month of April, 2001.

In order for an affirmative determination to be made and a certification of eligibility to apply for NAFTA-TAA the following group eligibility requirements of section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-04376 & A, B; Armtex, Inc., Pilot Mountain, NC, Gastonia, NC and Surry Industries, LLC, Pilot Mountain, NC

NAFTA-TAA-04530; Sterling Last LLC, Henderson, TN

NAFTA-TAA-04616; Standard Forged Products, Inc., Johnsontown, PA

NAFTA-TAA-04727; Ludlow Building Products, Inc., Adrian, MI

NAFTA-TAA-04521; Prodica LLC, Kennewick, WA

NAFTA-TAA-04728; Crawford Furniture Manufacturing Corp., New Bethlehem, PA

The investigation revealed that the criteria for eligibility have not been met for the reasons specified.

The workers firm does not produce an article as required for certification under Section 222 of the Trade Act of 1974.

NAFTA-TAA-04650; Avecia, Inc., Research and Development Group, Mount Pleasant, TN

NAFTA-TAA-04692; Textile Sales and Repair, Inc., Gastonia, NC

NAFTA-TAA-04622; STB Systems, Inc., d/b/a 3DFX Interactive of Texas, Inc., El Paso, TX

Affirmative Determinations NAFTA-TAA

NAFTA-TAA-04592; Corning Cable Systems, Kernersville, NC: February 27, 2000.

NAFTA-TAA-04427; The Fletch Corp., Fletcher Paper Co and Fletcher Coated Products, Alpena, MI: January 4, 2000.

NAFTA-TAA-04682; ISP Minerals, Kremlin Plant, Pembine, WI: March 14, 2000.

NAFTA-TAA-04427; The Fletch Corp., Fletcher Paper Co and Fletcher Coated Products, Alpena, MI: January 4, 2000.

NAFTA-TAA-04682; ISP Minerals, Kremlin Plant, Pembine, WI: March 14, 2000.

NAFTA-TAA-04593; The William Carter Co., Griffin, GA: January 29, 2000.

NAFTA-TAA-04571; PerkinElmer Optoelectronics, St. Louis, MO Facility, St. Louis, MO: February 22, 2000.

NAFTA-TAA-04591; Pathfinders U.S.A. LLC, Sedro Wooley, AS: February 10, 2000.

NAFTA-TAA-04603; IEC Electronics Corp., Edinburg, TX: February 21, 2000.

NAFTA-TAA-04652; Grote Industries, LLC, Harness Div., Madison, IN: March 6, 2000.

NAFTA-TAA-047378; C-Cor.Net, Tipton, PA: April 3, 2000.

NAFTA-TAA-04677; Accuride International, Inc., Charlotte, NC: March 23, 2000.

I hereby certify that the aforementioned determinations were issued during the month of April, 2001. Copies of these determinations are available for inspection in Room C-5311, U.S. Department of Labor, 200 Constitution Avenue, NW., Washington, DC 20210 during normal business hours or will be mailed to persons who write to the above address.

Dated: April 30, 2001.
Edward A. Tomchick,
Director, Division of Trade Adjustment Assistance.

[FR Doc. 01-11630 Filed 5-8-01; 8:45 am]

BILLING CODE 4510-30-M